FEDERAL COMMUNICATIONS COMMISSION

47 CFR Part 73

[DA 03-1156; MM Docket No. 02-301, RM-10578]

Radio Broadcasting Services; Broken Bow, OK

AGENCY: Federal Communications Commission.

ACTION: Proposed rule; dismissal.

SUMMARY: In response to a Notice of Proposed Rule Making, 67 FR 64598 (October 21, 2002), this Report and Order dismisses the Petition for Rule Making in MM Docket No. 02-301 proposing to allot Channel 232A to Broken Bow, Oklahoma. The petitioner had requested this dismissal.

FOR FURTHER INFORMATION CONTACT: R. Barthen Gorman, Media Bureau, (202) 418-2180.

SUPPLEMENTARY INFORMATION: This is a synopsis of the Commission's Report and Order, MM Docket No. 02-301, adopted April 15, 2003, and released April 17, 2003. The full text of this Commission decision is available for inspection and copying during normal business hours in the FCC's Reference Information Center at Portals II, 445 12th Street, SW., Room CY-A257, Washington, DC, 20554. The document may also be purchased from the Commission's duplicating contractor, Qualex International, Portals II, 445 12th Street, SW., Room CY-B402, Washington, DC, 20554, telephone 202 863-2893, facsimile (202) 863-2898, or via e-mail qualexint@aol.com.

Federal Communications Commission.
John A. Karousos,
Assistant Chief, Audio Division, Media Bureau.

[FR Doc. 03-11225 Filed 5-6-03; 8:45 am]

BILLING CODE 6712-01-P